DEPARTMENT OF HEALTH AND HUMAN SERVICES

Centers for Disease Control and Prevention

Disease, Disability, and Injury Prevention and Control Special Emphasis Panel (SEP): Program Announcement (PA) #01187, Counseling & Testing in Emergency Room & Ambulatory Care; PA #01188, Social & Environmental Interventions To Prevent HIV, and PA #01191, Efficacy of Condom Skills Building Demonstrations

In accordance with section 10(a)(2) of the Federal Advisory Committee Act (Pub. L. 92-463), the Centers for Disease Control and Prevention (CDC) announces the following meeting.

Name: Disease, Disability, and Injury Prevention and Control Special Emphasis Panel (SEP): PA #01187, Counseling & Testing in Emergency Room & Ambulatory Care; PA #01188, Social & Environmental Interventions to Prevent HIV; and PA #01191, Efficacy of Condom Skills Building Demonstrations, meeting.

Times and Date: 8 a.m.-9 a.m., September 11, 2001 (Open); 9 a.m.-5 p.m., September 11, 2001 (Closed); 8 a.m.-5 p.m., September 12, 2001 (Closed).

Place: The Double Tree Hotel Atlanta Buckhead, 3342 Peachtree Road, NE, Atlanta, Georgia 30326.

Status: Portions of the meeting will be closed to the public in accordance with provisions set forth in section 552b(c)(4) and (6), Title 5 U.S.C., and the Determination of the Deputy Director for Program Management, CDC, pursuant to Public Law 92-463.

Matters To Be Discussed: The meeting will include the review, discussion, and evaluation of applications received in response to Program Announcements 01187, 01188, and 01191.

For Further Information Contact: Beth Wolfe, Prevention Support Office, National Center for HIV, STD, and TB Prevention, CDC, Corporate Square Office Park, 8 Corporate Square Boulevard, M/S E07, Atlanta, Georgia 30329, telephone 404/639-8025.

The Director, Management Analysis and Services office has been delegated the authority to sign Federal Register notices pertaining to announcements of meetings and other committee management activities, for both the Centers for Disease Control and Prevention and the Agency for Toxic Substances and Disease Registry.

Dated: August 20, 2001.
Carolyn J. Russell,
Director, Management Analysis and Services Office, Centers for Disease Control and Prevention CDC.

[FR Doc. 01-21403 Filed 8-23-01; 8:45 am]

BILLING CODE 4163-18-P